DEPARTMENT OF TRANSPORTATION

Federal Aviation Administration

14 CFR Parts 21, 25, and 29

[Docket No. FAA-2023-0515]

Draft Policy Statement Regarding Submission of Outline of New and Changed Systems at the Beginning of the Type Certificate Amendment Process for Transport Category Aircraft

AGENCY: Federal Aviation Administration (FAA), DOT.

ACTION: Notification of availability; request for comments.

SUMMARY: As required by the Aircraft Certification, Safety, and Accountability Act, a draft policy statement would revise FAA procedures in order to require applicants for amendments to type certificates (TCs) for transport category aircraft to disclose, in a single document at the beginning of the certification process, all new systems and intended changes to existing systems known to the applicant.

DATES: Comments on the draft policy statement must be received on or before April 3, 2023.

ADDRESSES: Send comments with the subject line, “Outline of New and Changed Systems for Transport Category Aircraft” identified by docket number FAA-2023-0515, using the following method:

Federal eRegulations Portal: Go to https://www.regulations.gov and follow the online instructions for sending your comments electronically.

Mail: Send comments to Docket Operations, M-30, U.S. Department of Transportation (DOT), 1200 New Jersey Avenue SE, Room W12-140, West Building Ground Floor, Washington, DC 20590-0001.

Hand Delivery of Courier: Take comments to Docket Operations in Room W12-140 of the West Building Ground Floor at 1200 New Jersey Avenue SE, Washington, DC, between 9 a.m., and 5 p.m., Monday through Friday, except Federal holidays.

Fax: Fax comments to Docket Operations at 202-493-2251.

Privacy: In addition to the final policy statement, the FAA will post all comments it receives, without change, to https://www.regulations.gov/, including any personal information the commenter provides. DOT's complete Privacy Act Statement can be found in the Federal Register published on April 11, 2000 (65 FR 19477-19478), as well as at https://DocketsInfo.dot.gov.

FOR FURTHER INFORMATION CONTACT: Sue McCormick, Strategic Policy Systems Standards Section, AIR-619, Strategic Policy Management Branch, Policy and Innovation Divison, Aircraft Certification Service, by email at susan.mccormick@faa.gov, or by phone at (206) 231-3242.

SUPPLEMENTARY INFORMATION:

Discussion

Section 105(c) of the Aircraft Certification, Safety, and Accountability Act, Public Law 116-260 (the Act) requires the FAA to revise its procedures in order to require applicants for amendments to TCs for transport category aircraft to disclose, in a single document at the beginning of the certification process, all new systems and intended changes to existing systems known to the applicant. Transport category aircraft are transport category airplanes and transport category rotorcraft. The FAA would issue a policy statement to implement section 105(c), and a draft of the policy statement may be examined in the docket and at https://www.faa.gov/aircraft/draft/docs/.

Comments Invited

The FAA invites the public to submit comments on the draft policy statement, as specified in the ADDRESSES section of this notification. Commenters should include the subject line, “Outline of New and Changed Systems for Transport Category Aircraft,” and the docket number on all comments submitted to the FAA. The most helpful comments will reference a specific recommendation, explain the reason for any recommended change, and include supporting information. The FAA will consider all comments received on or before the closing date, before issuing the final policy statement. The FAA will also consider late-filed comments, if it is possible to do so without incurring expense or delay.

Issued in Washington, DC, on February 24, 2023.
James D. Foltz,
Acting Manager, Strategic Policy Management Branch, Policy and Innovation Division, Aircraft Certification Service.

[FR Doc. 2023-04233 Filed 3-1-23; 8:45 am]

BILLING CODE 4910-13-P